DEPARTMENT OF HOMELAND SECURITY

Federal Emergency Management Agency

[Docket ID FEMA-2025-0002; Internal Agency Docket No. FEMA-B-2549]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The current effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: David Bascom, Acting Director, Engineering and Modeling Division, Risk Analysis, Planning & Information Directorate, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Jeffrey Jackson,
Deputy Assistant Administrator, Federal Insurance Directorate, Resilience, Federal Emergency Management Agency, Department of Homeland Security.

State and county | Location and case No. | Chief executive officer of community | Community map repository | Online location of letter of map revision | Date of modification | Community No.
Arizona:
Gila | Unincorporated areas of Gila County (25-09-0200P). | Steve Christensen, Chair, Gila County Board of Supervisors, 1400 East Ash Street, Globe, AZ 85501. | Gila County Zoning Building, 745 North Rose Mofford Way, Globe, AZ 85501. | https://msc.fema.gov/portal/advanceSearch. | Oct. 15, 2025 | 040028
Maricopa | City of Buckeye (24-09-0656P). | The Honorable Eric Orsborn, Mayor, City of Buckeye, 530 East Monroe Avenue, Buckeye, AZ 85326. | City Hall, 530 East Monroe Avenue, Buckeye, AZ 85326. | https://msc.fema.gov/portal/advanceSearch. | Oct. 7, 2025 | 040039
Maricopa | City of Buckeye (24-09-1109P). | The Honorable Eric Orsborn, Mayor, City of Buckeye, 530 East Monroe Avenue, Buckeye, AZ 85326. | City Hall, 530 East Monroe Avenue, Buckeye, AZ 85326. | https://msc.fema.gov/portal/advanceSearch. | Oct. 2, 2025 | 040039
Maricopa | City of Goodyear (24-09-0311P). | The Honorable Joe Pizzillo, Mayor, City of Goodyear, 1900 North Civic Square, Goodyear, AZ 85395. | City Hall, 1900 North Civic Square, Goodyear, AZ 85395. | https://msc.fema.gov/portal/advanceSearch. | Oct. 2, 2025 | 040046
Maricopa | City of Peoria (24-09-0453P). | The Honorable Jason Beck, Mayor, City of Peoria, 8401 West Monroe Street, Peoria, AZ 85345. | City Hall, 8401 West Monroe Street, Peoria, AZ 85345. | https://msc.fema.gov/portal/advanceSearch. | Oct. 3, 2025 | 040050
Pinal | City of Apache Junction (24-09-1179P). | The Honorable Chip Wilson, Mayor, City of Apache Junction, 300 East Superstition Boulevard, Apache Junction, AZ 85119. | City Hall, 300 East Superstition Boulevard, Apache Junction, AZ 85119. | https://msc.fema.gov/portal/advanceSearch. | Oct. 9, 2025 | 040120
California:
Riverside | Agua Caliente Band of Cahuilla Indians Tribe (25-09-0017P). | Reid D. Milanovich, Chair, Tribal Council of the Agua Caliente Band of Cahuilla Indians, 5401 Dinah Shore Drive, Palm Springs, CA 92264. | Agua Caliente Band of Cahuilla Indians, 5401 Dinah Shore Drive, Palm Springs, CA 92264. | https://msc.fema.gov/portal/advanceSearch. | Oct. 3, 2025 | 060763
Riverside | City of Moreno Valley (24-09-0295P). | The Honorable Ulises Cabrera, Mayor, City of Moreno Valley, 14177 Frederick Street, Moreno Valley, CA 92552. | City Hall, 14177 Frederick Street, Moreno Valley, CA 92552. | https://msc.fema.gov/portal/advanceSearch. | Oct. 7, 2025 | 065074
Riverside | City of Palm Springs (25-09-0017P). | Scott Stiles, Manager, City of Palm Springs, 3200 East Tahquitz Canyon Way, Palm Springs, CA 92262. | City Hall, 3200 East Tahquitz Canyon Way, Palm Springs, CA 92262. | https://msc.fema.gov/portal/advanceSearch. | Oct. 3, 2025 | 060257
Riverside | City of Perris (24-09-0777P). | The Honorable Michael Vargas, Mayor, City of Perris, 101 North D Street, Perris, CA 92570. | City Hall, 101 North D Street, Perris, CA 92570. | https://msc.fema.gov/portal/advanceSearch. | Oct. 6, 2025 | 060258
Riverside | Unincorporated areas of Riverside County (24-09-0973P). | Jose Medina, Supervisor of District 1, Riverside County, 4080 Lemon Street, 5th Floor, Riverside, CA 92501. | Riverside County Flood Control, 1995 Market Street, Riverside, CA 92501. | https://msc.fema.gov/portal/advanceSearch. | Oct. 8, 2025 | 060245
San Bernardino | City of Highland (24-09-0987P). | The Honorable Penny Lilburn, Mayor, City of Highland, 27215 Base Line Street, Highland, CA 92346. | City Hall, 27215 Base Line Street, Highland, CA 92346. | https://msc.fema.gov/portal/advanceSearch. | Oct. 14, 2025 | 060732
Colorado:
Adams | City of Thornton (24-08-0480P). | The Honorable Jan Kulmann, Mayor, City of Thornton, 9500 Civic Center Drive, Thornton, CO 80229. | City Hall, 9500 Civic Center Drive, Thornton, CO 80229. | https://msc.fema.gov/portal/advanceSearch. | Oct. 3, 2025 | 080007
Larimer | Unincorporated areas of Larimer County (24-08-0371P). | Kristin Stephens, Chair, Larimer County Board of Commissioners, P.O. Box 1190, Fort Collins, CO 80522. | Larimer County, Courthouse, 200 West Oak Street, Fort Collins, CO 80521. | https://msc.fema.gov/portal/advanceSearch. | Oct. 2, 2025 | 080101
Mesa | City of Fruita (24-08-0325P). | The Honorable Matthew Breman, Mayor, City of Fruita, 325 East Aspen Avenue, Fruita, CO 81521. | Public Works Department, 325 East Aspen Avenue, Suite 155, Fruita, CO 81521. | https://msc.fema.gov/portal/advanceSearch. | Oct. 13, 2025 | 080194
Mesa | Unincorporated areas of Mesa County (24-08-0325P). | Cody Davis, Chair, Mesa County Board of Commissioners, Department 5010, P.O. Box 20000, Grand Junction, CO 81501. | Mesa County Engineering Department, Department 5013, 200 South Spruce Street, Grand Junction, CO 81502. | https://msc.fema.gov/portal/advanceSearch. | Oct. 13, 2025 | 080115
Idaho:
Ada | City of Star (23-10-0891P). | The Honorable Trevor A. Chadwick, Mayor, City of Star, P.O. Box 130, Star, ID 83669. | Planning & Zoning Department, 10769 West State Street, Star, ID 83669. | https://msc.fema.gov/portal/advanceSearch. | Oct. 3, 2025 | 160236
Ada | Unincorporated areas of Ada County (23-10-0891P). | Rod Beck, Chair, Ada County Board of Commissioners, 200 West Front Street, 3rd Floor, Boise, ID 83702. | Ada County Development Services Department, 200 West Front Street, 2nd Floor, Boise, ID 83702. | https://msc.fema.gov/portal/advanceSearch. | Oct. 3, 2025 | 160001
Canyon | City of Caldwell (24-10-0553P). | The Honorable Jarom Wagoner, Mayor, City of Caldwell, 205 South 6th Avenue, Caldwell, ID 83605. | Public Works Department, 621 Cleveland Boulevard, Caldwell, ID 83605. | https://msc.fema.gov/portal/advanceSearch. | Sep. 26, 2025 | 160036
Canyon | City of Nampa (24-10-0553P). | The Honorable Debbie Kling, Mayor, City of Nampa, 411 3rd Street South, Nampa, ID 83651. | Development Services Center, 500 12th Avenue South, Nampa, ID 83651. | https://msc.fema.gov/portal/advanceSearch. | Sep. 26, 2025 | 160038
Canyon | Unincorporated areas of Canyon County (24-10-0553P). | Brad Holton, Chair, Canyon County Board of Commissioners, 1115 Albany Street, Room 101, Caldwell, ID 83605. | Canyon County Development Services Department, 111 North 11th Avenue, Room 310, Caldwell, ID 83605. | https://msc.fema.gov/portal/advanceSearch. | Sep. 26, 2025 | 160208
Nevada:
Clark | City of Henderson (24-09-0015P). | The Honorable Michelle Romero, Mayor, City of Henderson, 240 South Water Street, Henderson, NV 89015. | City Hall, 240 South Water Street, Henderson, NV 89015. | https://msc.fema.gov/portal/advanceSearch. | Sep. 26, 2025 | 320005
Clark | City of Henderson (24-09-1128P). | The Honorable Michelle Romero, Mayor, City of Henderson, 240 South Water Street, Henderson, NV 89015. | City Hall, 240 South Water Street, Henderson, NV 89015. | https://msc.fema.gov/portal/advanceSearch. | Oct. 10, 2025 | 320005
Clark | Unincorporated areas of Clark County (25-09-0114P). | Tick Segerblom, Chair, Clark County Board of Commissioners, 500 South Grand Central Parkway, Las Vegas, NV 89155. | Clark County Clerk's Office, 500 South Grand Central Parkway, Las Vegas, NV 89155. | https://msc.fema.gov/portal/advanceSearch. | Oct. 7, 2025 | 320003
Utah:
Davis | City of Farmington (25-08-0018P). | The Honorable Brett Anderson, Mayor, City of Farmington, 160 South Main Street, Farmington, UT 84025. | City Hall, 160 South Main Street, Farmington, UT 84025. | https://msc.fema.gov/portal/advanceSearch. | Sep. 24, 2025 | 490044
Davis | City of Fruit Heights City (24-08-0319P). | The Honorable John Pohlman, Mayor, City of Fruit Heights City, 910 South Mountain Road, Fruit Heights City, UT 84037. | City Hall, 910 South Mountain Road, Fruit Heights City, UT 84037. | https://msc.fema.gov/portal/advanceSearch. | Sep. 24, 2025 | 490045
Davis | City of Kaysville (25-08-0018P). | The Honorable Tamara Tran, Mayor, City of Kaysville, 23 East Center Street, Kaysville, UT 84037. | City Hall, 23 East Center Street, Kaysville, UT 84037. | https://msc.fema.gov/portal/advanceSearch. | Sep. 24, 2025 | 490046
Davis | Unincorporated areas of Davis County (25-08-0018P). | Lorene Miner Kamalu, Chair, Davis County Board of Commissioners, P.O. Box 618, Farmington, UT 84025. | Davis County Community & Economic Development Department, 61 South Main Street, Farmington, UT 84025. | https://msc.fema.gov/portal/advanceSearch. | Sep. 24, 2025 | 490038
Wyoming:
Albany | City of Laramie (24-08-0229P). | Janine Jordan, Manager, City of Laramie, 406 Ivinson Avenue, Laramie, WY 82070. | City Hall, 406 Ivinson Avenue, Laramie, WY 82070. | https://msc.fema.gov/portal/advanceSearch. | Sep. 18, 2025 | 560002
Albany | Unincorporated areas of Albany County (24-08-0229P). | Terri Jones, Chair, Albany County Board of Commissioners, 525 East Grand Avenue, Laramie, WY 82070. | Albany County Annex, 1002 South 3rd Street, Laramie, WY 82070. | https://msc.fema.gov/portal/advanceSearch. | Sep. 18, 2025 | 560001

[FR Doc. 2025-14874 Filed 8-5-25; 8:45 am]

BILLING CODE 9110-12-P